DEPARTMENT OF THE TREASURY

Submission for OMB Review; Comment Request

June 6, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before July 15, 2002, to be assured of consideration.

Internal Revenue Service (IRS)

OMB Number: 1545-0351.

Form Number: IRS Form 3975.

Type of Review: Extension.

Title: Tax Professionals Annual Mailing List Application and Order Blank.

Description: Form 3975 allows a tax professional a systematic way to remain on the Tax Professionals Mailing File and to order copies of tax materials.

Respondents: Business or other for-profit.

Estimated Number of Respondents: 320,000.

Estimated Burden Hours Per Respondent: 3 minutes.

Frequency of Response: Annually.

Estimated Total Reporting Burden: 16,000 hours.

OMB Number: 1545-1407.

Form Number: IRS Form 8848.

Type of Review: Extension.

Title: Consent To Extend the Time To Assess the Branch Profits Tax Under Regulations Sections 1.884-2(a) and (c).

Description: Form 8848 is used by foreign corporations that have (a) completely terminated all of their U.S. trade or business within the meaning of Temporary Regulations section 1.884-2T(a) during the tax year or (b) transferred their U.S. assets to a domestic corporation in a transaction described in Code section 381(a), if the foreign corporation was engaged in a U.S. trade or business at that time.

Respondents: Business or other for-profit.

Estimated Number of Respondents/Recordkeepers: 5,000.

Estimated Burden Hours Per Respondent/Recordkeeper:

Recordkeeping—3 hr., 3 min.

Learning about the law or the form—11 min.

Preparing and sending the form to the IRS—1 hr., 6 min.

Frequency of Response: Annually.

Estimated Total Reporting/Recordkeeping Burden: 22,500 hours.

OMB Number: 1545-1773.

Revenue Procedure Number: Revenue Procedure 2002-23.

Type of Review: Extension.

Title: Taxation of Canadian Retirement Plans Under U.S.—Canada Income Tax Treaty.

Description: This Revenue Procedure provides guidance for the application by U.S. citizens and residents of the U.S.—Canada Income Tax Treaty, as amended by the 1995 protocol, in order to defer U.S. Income taxes on income accrued in certain Canadian retirement plans.

Respondents: Individuals or households.

Estimated Number of Respondents: 20,000.

Estimated Burden Hours Per Respondent: 30 minutes.

Frequency of Response: Other (once).

Estimated Total Reporting Burden: 10,000 hours.

Clearance Officer: Glenn Kirkland, Internal Revenue Service, Room 6411-03, 1111 Constitution Avenue, NW., Washington, DC 20224.

OMB Reviewer: Alexander T. Hunt, Office of Management and Budget, Room 10202, New Executive Office Building, Washington, DC 20503, (202) 395-7860.

Mary A. Able,
Departmental Reports Management Officer.

[FR Doc. 02-15017 Filed 6-13-02; 8:45 am]

BILLING CODE 4830-01-P